DEPARTMENT OF THE INTERIOR

National Park Service

[2253-665]

Notice of Intent To Repatriate Cultural Items: U.S. Fish and Wildlife Service, Office of Law Enforcement, Lakewood, CO

AGENCY: National Park Service, Interior.

ACTION: Notice.

SUMMARY: The U.S. Fish and Wildlife Service, Office of Law Enforcement, in consultation with the appropriate Indian tribe, has determined that the cultural items listed below meet the definition of sacred objects and repatriation to the Indian tribe stated below may occur if no additional claimants come forward. Representatives of any Indian tribe that believes itself to be culturally affiliated with the cultural items may contact the U.S. Fish and Wildlife Service, Office of Law Enforcement.

DATES: Representatives of any Indian tribe that believes it has a cultural affiliation with the cultural items should contact the U.S. Fish and Wildlife Service, Office of Law Enforcement, at the address below by April 6, 2012.

ADDRESSES: Special Agent in Charge, U.S. Fish and Wildlife Service, Office of Law Enforcement, 134 Union Blvd., Room 550, Lakewood, CO 80228, telephone (303) 236-7540.

SUPPLEMENTARY INFORMATION: Notice is here given in accordance with the Native American Graves Protection and Repatriation Act (NAGPRA), 25 U.S.C. 3005, of the intent to repatriate two cultural items in the possession of the U.S. Fish and Wildlife Service, Office of Law Enforcement, that meet the definition of sacred objects under 25 U.S.C. 3001.

This notice is published as part of the National Park Service's administrative responsibilities under NAGPRA, 25 U.S.C. 3003(d)(3). The determinations in this notice are the sole responsibility of the U.S. Fish and Wildlife Service, Office of Law Enforcement. The National Park Service is not responsible for the determinations in this notice.

History and Description of the Cultural Items

These items came into the possession and control of the U.S. Fish and Wildlife Service (USFWS), Office of Law Enforcement, pursuant to a criminal investigation. The items were forfeited to the U.S. Government by the U.S. Customs Service in separate forfeiture actions in January, February and March 2001, and the Federal criminal investigations are now complete.

USFWS contracted with expert consultants to review the collection and consulted with 11 tribes having interest or affiliation in the objects. Three tribes filed claims requesting repatriation of objects from the collection. Upon review, the USFWS determined that two sacred objects (Item 6: Crow lumpwood dance wand and Item 46: spithorn headdress) are subject to repatriation to the Crow Tribe of Montana.

Determinations Made by the U.S. Fish and Wildlife Service, Office of Law Enforcement

Based on the above-mentioned information, officials of the USFWS have determined that:

• Pursuant to 25 U.S.C. 3001(3)(C), two of the cultural items described above are specific ceremonial objects needed by traditional Native American religious leaders for the practice of traditional Native American religions by their present-day adherents.

• Pursuant to 25 U.S.C. 3001(2), there is a relationship of shared group identity that can be reasonably traced between two cultural objects and the Crow Tribe of Montana.

Additional Requestors and Disposition

Representatives of any other Indian tribe that believes itself to be culturally affiliated with these sacred objects should contact the Special Agent in Charge, U.S. Fish and Wildlife Service, Office of Law Enforcement, 134 Union Blvd., Room 550, Lakewood, CO 80228; telephone (303) 236-7540, April 6, 2012. Repatriation of the sacred objects the Crow Tribe of Montana may proceed after that date if no additional claimants come forward.

The U.S. Fish and Wildlife Service, Office of Law Enforcement, Lakewood, CO, is responsible for notifying the Crow Tribe of Montana that this notice has been published.

Dated: March 2, 2012.
Sherry Hutt,
Manager, National NAGPRA Program.

[FR Doc. 2012-5584 Filed 3-6-12; 8:45 am]

BILLING CODE 4312-50-P